FEDERAL RESERVE SYSTEM

Agency Information Collection Activities: Announcement of Board Approval Under Delegated Authority and Submission to OMB

SUMMARY:

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Mary M. West--Division of Research and Statistics, Board of Governors of the Federal Reserve System, Washington, DC 20551 (202-452-3829); OMB Desk Officer--Joseph F. Lackey --Office of Information and Regulatory Affairs, Office of Management and Budget, New Executive Office Building, Room 10238, Washington, DC 20503 (202-395-7316).

Final Approval Under OMB Delegated Authority of the Extension for Three Years, Without Revision, of the Following Reports:

1. Report title: The Ongoing Intermittent Survey of Households

Agency form number: FR 3016

OMB control number: 7100-0150

Frequency: On occasion

Reporters: Households and individuals

Annual reporting hours: 390 hours

Estimated average hours per response: 3.92 minutes

Number of respondents: 500

Small businesses are not affected.

General description of report: This information collection is voluntary (12 U.S.C. 225a, 263, and 15 U.S.C. 1691b). No issue of confidentiality normally arises because names and any other characteristics that would permit personal identification of respondents are not reported to the Board. However, exemption 6 of the Freedom of Information Act (5 U.S.C. 552(b)(6)) would exempt this information from disclosure.

Abstract: The Federal Reserve uses this voluntary survey to obtain household-based information specifically tailored to the Federal Reserve's policy, regulatory, and operational responsibilities. The University of Michigan's Survey Research Center (SRC) includes survey questions on behalf of the Federal Reserve in an addendum to their regular monthly Survey of Consumer Attitudes and Expectations. The SRC conducts the survey by telephone with a sample of 500 households and includes questions of special interest to Board staff intermittently, as needed. The frequency and content of the questions depend on changing economic, regulatory, and legislative developments.

2. Report title: The Recordkeeping and Disclosure Requirement in Connection with Regulation M (Consumer Leasing)

Agency form number: Reg M

OMB control number: 7100-0202

Frequency: On occasion

Reporters: Consumer lessors

Annual reporting hours: Disclosures, 11,160 hours; and Advertising, 19 hours

Estimated average hours per response: Disclosures, 18 minutes; and Advertising, 25 minutes

Number of respondents: 310

Small businesses are affected.

General description of report: This information collection is mandatory sections 105(a) and 187 of TILA (15 U.S.C. §§ 1604(a) and 1667f) is not given confidential treatment.

Abstract: The Consumer Leasing Act and Regulation M are intended to provide consumers with meaningful disclosures about the costs and terms of leases for personal property. The disclosures enable consumers to compare the terms for a particular lease with those for other leases and, when appropriate, to compare lease terms with those for credit transactions. The act and regulation also contain rules about advertising consumer leases and limit the size of balloon payments in consumer lease transactions. The information collection pursuant to Regulation M is triggered by specific events. All disclosures must be provided to the lessee prior to the consummation of the lease and when the availability of consumer leases on particular terms is advertised.

3. Report title: The Recordkeeping and Disclosure Requirement in Connection with Regulation DD (Truth in Savings)

Agency form number: Reg DD

OMB control number: 7100-0271

Frequency: Account disclosures, 500; Change in terms notices, 1,130; Prematurity notices, 1,015; Disclosures on periodic statements, 12; and Advertising, 12

Reporters: State member banks

Annual reporting hours: 146,644 hours

Estimated average hours per response: Account disclosures, 1.5 minutes; Change in terms notices, 1 minute; Prematurity notices, 1 minute; Disclosures on periodic statements, 8 hours; and Advertising, 30 minutes

Number of respondents: 976

Small businesses are affected.

General description of report: This information collection is mandatory. Section 269 of the Truth in Savings Act (12 U.S.C. § 4308) authorizes the Board to issue regulations to carry out the provisions of the Act. Since the Federal Reserve does not collect any information, the information collection is not given confidential treatment.

Abstract: The Truth in Savings Act and Regulation DD require depository institutions to disclose yields, fees, and other terms concerning deposit accounts to consumers at account opening, upon request, and when changes in terms occur. Depository institutions that provide periodic statements are required to include information about fees imposed, interest earned, and the annual percentage yield earned during those statement periods. The act and regulation mandate the methods by which institutions determine the account balance on which interest is calculated. They also contain rules about advertising deposit accounts.

Board of Governors of the Federal Reserve System, July 10, 2002.
Jennifer J. Johnson
Secretary of the Board.

[FR Doc. 02-17760 Filed 7-15-02; 8:45 am]

BILLING CODE 6210-01-S